DEPARTMENT OF THE INTERIOR

Bureau of Land Management

[223.LLAK941200.L1440000.ET0000; AA-82857]

Public Land Order No. 7918; Extension of Public Land Order No. 7555; Russian River and Upper Russian Lake Recreation Corridor; Alaska

AGENCY: Bureau of Land Management, Interior.

ACTION: Public Land Order.

SUMMARY: This Public Land Order (PLO) extends the duration of the withdrawal created by PLO No. 7555, which would otherwise expire on February 12, 2023, for an additional 20-year term. PLO No. 7555 withdrew approximately 2,998 acres of National Forest System lands from location and entry under the United States mining laws, subject to valid existing rights, for the protection of the Russian River and Upper Russian Lake Recreation Corridor near Cooper Landing, Alaska.

DATES: This PLO takes effect on February 13, 2023.

FOR FURTHER INFORMATION CONTACT: Chelsea Kreiner, BLM Alaska State Office, 222 West Seventh Avenue, Mailstop 13, Anchorage, AK 99513-7504, (907) 271-4205, or ckreiner@blm.gov. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: The purpose for which the withdrawal was first made requires this extension to continue the protection of the Russian River and Upper Russian Lake Corridor near Cooper Landing, Alaska. The lands will remain open to such uses as may by law be made of National Forest System lands, and all public uses consistent with the recreational utilization and protection of the Russian River watershed.

Order

By virtue of the authority vested in the Secretary of the Interior by Section 204(f) of the Federal Land Policy and Management Act of 1976, 43 U.S.C. 1714(f), it is ordered as follows:

1. Subject to valid existing rights, PLO No. 7555, (68 FR 7387 (2003)), which withdrew approximately 2,998 acres of National Forest System lands from location or entry under the United States mining laws, subject to valid existing rights, to protect the Russian River and Upper Russian Lake Recreation Corridor, is hereby extended for an additional 20-year period.

2. The withdrawal extended by this Order will expire on February 12, 2043, unless, as a result of a review conducted prior to the expiration date, pursuant to Section 204(f) of the Federal Land Policy and Management Act of 1976, 43 U.S.C. 1714(f), the Secretary determines that the withdrawal shall be further extended.

(Authority: 43 U.S.C. 1714)

Shannon A. Estenoz,
Assistant Secretary for Fish and Wildlife and Parks.

[FR Doc. 2023-02825 Filed 2-9-23; 8:45 am]

BILLING CODE 4331-10-P